FEDERAL RESERVE SYSTEM

Formations of, Acquisitions by, and Mergers of Bank Holding Companies; Correction

This notice corrects a notice (FR Doc. 2010-29489) published on pages 71440 and 71441 of the issue for Tuesday, November 23, 2010.

Under the Federal Reserve Bank of Dallas heading, the entry for Commercial Bancshares, Inc., El Campo, Texas, is revised to read as follows:

A. Federal Reserve Bank of Dallas (E. Ann Worthy, Vice President) 2200 North Pearl Street, Dallas, Texas 75201-2272:

1. Commercial Bancshares, Inc., El Campo, Texas; to become a bank holding company by acquiring 75 percent of the voting shares of El Campo Bancshares, Inc., and thereby indirectly acquire voting shares of Commercial State Bank, both of El Campo, Texas.

Comments on this application must be received by December 17, 2010.

Board of Governors of the Federal Reserve System, November 23, 2010.
Robert deV. Frierson,
Deputy Secretary of the Board.

[FR Doc. 2010-29997 Filed 11-29-10; 8:45 am]

BILLING CODE 6210-01-P